DEPARTMENT OF COMMERCE

International Trade Administration

[A-570-916]

Laminated Woven Sacks from the People's Republic of China: Partial Rescission of Antidumping Duty Administrative Review

AGENCY: Import Administration, International Trade Administration, Department of Commerce.

EFFECTIVE DATE: December 17, 2009.

FOR FURTHER INFORMATION CONTACT: Zev Primor or Shawn Higgins, AD/CVD Operations, Office 4, Import Administration, International Trade Administration, U.S. Department of Commerce, 14th Street and Constitution Avenue, NW, Washington, DC 20230, telephone: (202) 482-4114 or (202) 482-0679, respectively.

SUPPLEMENTARY INFORMATION:

Background

On August 7, 2008, the Department of Commerce (the “Department”) published in the Federal Register the antidumping duty order on laminated woven sacks (“LWS”) from the People's Republic of China (“PRC”). See Notice of Antidumping Duty Order: Laminated Woven Sacks From the People's Republic of China, 73 FR 45941 (August 7, 2008) (“LWS Order”). On August 3, 2009, the Department published a notice of opportunity to request an administrative review of the LWS Order. See Antidumping or Countervailing Duty Order, Finding, or Suspended Investigation; Opportunity To Request Administrative Review, 74 FR 38397 (August 3, 2009).

The Department received a timely request for an administrative review of the LWS Order from Zibo Aifudi Plastic Packaging Co., Ltd. (“Zibo Aifudi”) and Changshu Xinsheng Bags Producing Company, Ltd. (“Changshu Xinsheng Bags”) on August 26, 2009 and August 31, 2009, respectively, in accordance with section 751(a) of Tariff Act of 1930, as amended (the “Act”). On September 22, 2009, the Department published in the Federal Register a notice of the initiation of an administrative review of the LWS Order. See Initiation of Antidumping and Countervailing Duty Administrative Reviews and Request for Revocation in Part, 74 FR 48224 (September 22, 2009) (“Initiation Notice”). The review was initiated with respect to both companies and covers the period from January 31, 2008, through July 31, 2009. On November 6, 2009, Changshu Xinsheng Bags submitted to the Department a timely letter requesting a withdrawal from the ongoing administrative review.

Partial Rescission of Review

Pursuant to 19 CFR 351.213(d)(1), the Department will rescind an administrative review, in whole or in part, if the party that requested the review withdraws its request within 90 days of the date of publication of the notice of initiation of the requested review. Because Changshu Xinsheng Bags withdrew its request for an administrative review within 90 days of the date of publication of the notice of initiation, and no other interested party requested a review of this company, the Department is rescinding this review with respect to Changshu Xinsheng Bags, in accordance with 19 CFR 351.213(d)(1). The review will continue with respect to Zibo Aifudi which is identified in the Initiation Notice.

Assessment

The Department will instruct U.S. Customs and Border Protection (“CBP”) to assess antidumping duties on all appropriate entries. Since the company for which this review has been rescinded does not have a separate rate at this time, the Department will issue assessment instructions for this company upon completion of the instant administrative review.

Notification to Importers

This notice serves as a final reminder to importers whose entries will be liquidated as a result of this rescission notice, of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (“APOs”)

This notice also serves as a reminder to parties subject to APOs of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: December 11, 2009.
John M. Andersen,
Acting Deputy Assistant Secretary for Antidumping and Countervailing Duty Operations.

[FR Doc. E9-30051 Filed 12-16-09; 8:45 am]

BILLING CODE 3510-DS-S